DEPARTMENT OF TRANSPORTATION

Federal Aviation Administration

14 CFR Part 39

[Docket No. FAA-2005-21275; Directorate Identifier 2005-CE-28-AD; Amendment 39-14450; AD 2006-01-11]

RIN 2120-AA64

Airworthiness Directives; The Cessna Aircraft Company Models 208 and 208B Airplanes

AGENCY: Federal Aviation Administration (FAA), DOT.

ACTION: Final rule.

SUMMARY: The FAA adopts a new airworthiness directive (AD) for all The Cessna Aircraft Company (Cessna) Models 208 and 208B airplanes. This AD requires you to install the pilot assist handle (part number (P/N) SK208-146-2) (or FAA-approved equivalent part number) and deicing boots on the cargo pod and landing gear fairings (part number (P/N) AK208-6C) (or FAA-approved equivalent part number); and make changes to the Pilot's Operating Handbook (POH) and FAA-approved Airplane Flight Manual (AFM). This AD results from reports of several accidents involving the affected airplanes during operations in flight and in ground icing conditions. We are issuing this AD to provide a safe method to detect ice, snow, frost, or slush adhering to the upper wing (a critical surface) prior to takeoff; and to reduce drag in-flight by shedding ice on the cargo pod and landing gear fairings. Ice adhering to the upper wing surface, cargo pod, or landing gear fairings could result in a reduction in airplane performance with the consequences that the airplane cannot perform a safe takeoff or climb.

DATES: This AD becomes effective on February 22, 2006.

As of February 22, 2006, the Director of the Federal Register approved the incorporation by reference of certain publications listed in the regulation.

ADDRESSES: To get the service information identified in this AD, contact The Cessna Aircraft Company, Product Support, P.O. Box 7706, Wichita, Kansas 67277-7706; telephone: (316) 517-5800; facsimile: (316) 942-9006.

To view the AD docket, go to the Docket Management Facility; U.S. Department of Transportation, 400 Seventh Street, SW., Nassif Building, Room PL-401, Washington, DC 20590-001 or on the Internet at http://dms.dot.gov. The docket number is FAA-2005-21275; Directorate Identifier 2005-CE-28-AD.

FOR FURTHER INFORMATION CONTACT: Paul Pellicano, Aerospace Engineer (Icing), FAA, Small Airplane Directorate, c/o Atlanta Aircraft Certification Office (ACO), One Crown Center, 1985 Phoenix Boulevard, Suite 450, Atlanta, GA 30349; telephone: (770) 703-6064; facsimile: (770) 703-6097; or Robert P. Busto, Aerospace Engineer, Wichita ACO, FAA, 1801 Airport Road, Wichita, Kansas 67209; telephone: (316) 946-4157; facsimile: (316) 946-4107.

SUPPLEMENTARY INFORMATION:

Discussion

What events have caused this AD? The FAA has received several reports of accidents and incidents concerning problems with Cessna Models 208 and 208B airplanes during operations in icing conditions. This includes a total of six accidents in the previous two icing seasons and nine other incidents. One-third of the Model 208 icing-related accidents occurred as a result of loss of control after takeoff in ground icing conditions. One-third is suspected to have occurred in supercooled large droplets, icing conditions outside the 14 CFR part 25 Appendix C certification envelope. The Cessna Models 208 and 208B are certificated to 14 CFR part 23, but 14 CFR part 23 references 14 CFR part 25 Appendix C for icing certification.

Findings from the accidents conclude that there was a reduction in airplane performance due to drag from airframe ice accretion. The airplanes could not perform a safe takeoff, climb, or maintain altitude.

What is the potential impact if FAA took no action? Ice adhering to critical surfaces could result in a reduction in airplane performance with the consequence that the airplane cannot climb or maintain altitude.

Has FAA taken any action to this point? We issued a proposal to amend part 39 of the Federal Aviation Regulations (FAR) (14 CFR part 39) to include an AD that would apply to all The Cessna Aircraft Company (Cessna) Models 208 and 208B airplanes. This proposal was published in the Federal Register as a notice of proposed rulemaking (NPRM) on June 21, 2005 (70 FR 35565). The NPRM proposed to require you to install a pilot assist handle, Cessna part number SK208-146-2, for all affected airplanes, install deicing boots on landing gear struts and cargo pod, Cessna part number AK208-6C, for all affected airplanes, and make changes to the Pilot's Operating Handbook (POH) and FAA-approved Airplane Flight Manual (AFM), and to the POH and AFM Supplement S1 for all affected airplanes.

Comments

Was the public invited to comment? We provided the public the opportunity to participate in developing this AD. The following presents the comments received on the proposal and FAA's response to each comment:

Comment Issue No. 1: Allow Installation of Replacements Parts Approved Under 14 CFR 21.303

What is the commenter's concern? The commenter, the Modification and Replacement Parts Association (MARPA), states that the Parts Manufacturer Approval (PMA), 14 CFR 21.303, provides an alternative mechanism for the design, production, sale, and installation of aeronautical items other than those specified by the original equipment manufacturer (OEM). While no alternative PMA parts are currently known to exist, alternative PMA parts may be created in the future and the AD action should take into account that possibility.

The MARPA requests that the AD language state that installation of replacements parts approved under 14 CFR 21.303 is permitted.

What is FAA's response to the concern? We agree with the MARPA. The FAA will add the phrase “or FAA-approved equivalent part number”, and add language to cover the PMA replacement parts.

Comment Issue No. 2: Withdraw the Requirement for the Pilot Assist Handle

What is the commenter's concern? Three commenters, two owners/operators and the Regional Air Cargo Carriers Association (RACCA), request the withdrawal of the requirement for the pilot assist handle.

The commenters justify the request for withdrawal of the proposed requirement for the pilot assist handle reasoning that it is more cost effective and the results will be better to continue the course of crewmember training and education. Further, a handle will not allow the pilot to make better decisions. Lastly, the affected airplanes' ability to operate in and out of smaller airports, which typically do not have ground de-ice facilities or capabilities, require the flight crew to be especially diligent in pre-takeoff examination, assessment, and judgment.

The RACCA also notes these reasons to withdraw the requirement for the pilot assist handle:

—The operator may employ alternative methods of gaining access to upper wing surface, and these methods may provide better access to a variety of locations along the wingspan.

—It may be extremely dangerous and result in personal injury (from a fall) to do the tactile inspection while attempting to stand on the doorsill and hang from the pilot assist handle after the application of deicing/anti-icing fluid may be extremely dangerous and result in personal injury from a fall.

—It may be challenging or impossible for some pilots to reach the intended tactile inspection area, and this could easily be challenged under the Americans with Disabilities Act.

What is FAA's response to the concern? The FAA acknowledges the points made by the commenters to this issue. Rather than mandating installation of a pilot assist handle for all affected airplanes, FAA will mandate a revision to the Required Equipment List in the Limitations section of the basic AFM. This revision will require installation of the pilot assist handle in ground icing conditions currently defined in the AFM Limitations section. This AD does not mandate where on the wingspan a pre-takeoff tactile inspection is done and does not preclude an owner/operator from inspecting the upper wing with a ladder. It provides the type design one safe method to do the tactile check on the upper wing surface, particularly the pretakeoff contamination check required in part 135 operations during ground icing conditions.

We have revised the final rule to reflect this change.

Comment Issue No. 3: Withdraw the Proposed Requirement To Install Deicing Boots on the Cargo Pod and Landing Gear

What is the commenter's concern? Two commenters seek the withdrawal of the proposed requirement to install deicing boots on the cargo pod and landing gear. The first commenter wants FAA to also show the statistical probable cause and result of each known icing accident involving Cessna Models 208 and 208B airplanes. Further, the commenter wants FAA to prove that the proposed additional equipment would have prevented a substantial number of these accidents.

The second commenter, an airline transport pilot, in a personal anecdote describes ice adhering to critical surfaces of the Cessna Model 208B airplane that he was piloting despite the airplane being equipped with deicing boots on the landing gear struts and cargo pod. The commenter describes loss of control at high airspeed under icing conditions.

The second commenter expresses concern that the installation of deicing boots on the landing gear struts and cargo pod on Cessna Models 208 and 208B airplanes will give pilots and operators of these airplanes a false sense of security that the problem of ice handling ability of the airplane has been resolved. This commenter indicates that poor performance of the existing deicing boots is a factor in loss of control accidents and that redesign of the existing systems is needed.

We conclude that the second commenter wants FAA to withdraw the proposed requirement to install deicing boots on the cargo pod and landing gear.

What is FAA's response to the concern? Loss of control after takeoff caused one-third of the fatal accidents involving the affected airplanes, and the other two-thirds occurred in-flight. Approximately 50-percent of the airplanes involved in in-flight icing related accidents were not equipped with deicing boots on the landing gear and on the cargo pod if equipped with a cargo pod. Approximately 80-percent of the airplanes involved in in-flight accidents suspected to be in supercooled large drops were not equipped with these boots. Our drag analysis shows that the service ceiling in icing is decreased by more than 1,000 feet in critical icing conditions without this equipment. Cessna flight-testing of artificial ice shapes validated this analysis. Regarding the loss of control at high airspeed, FAA and the manufacturer evaluated longitudinal control with artificial ice shapes and have found no problems.

As for performance of the deicing boots, FAA has conducted icing tunnel tests on a similar general aviation airfoil and deicing boots. The results will be reported in 2006. The results of these tests are reflected in revisions to the Airplane Flight Manual Known Icing Supplement Limitations and Procedures during 2005.

We have revised the AD to modify the estimated costs of compliance.

Comment Issue No. 4: Require Cargo Pod and Landing Gear Deicing Boots on Only Those Airplanes Equipped With Pneumatic Deicing Boots and Approved for Flight in Icing Conditions

What is the commenter's concern? Two commenters, one the U.S. Parachute Association (USPA), write that many operators operate their Models 208 and 208B airplanes in visual meteorological conditions (VMC) and have no intention on flying into known icing conditions or instrument meteorological conditions (IMC).

Comments from the USPA note that some jump-configured Cessna Models 208 and 208B airplanes are equipped with pneumatic deicing boots. The USPA letter also indicates that on some airplanes the boots have been deactivated. In other cases, the boots are operational, but the operator indicates that the aircraft does not have the added equipment that would permit flight into known icing conditions; is not flown in instrument meteorological conditions; or is not flown in known icing conditions. The requirement for deicing boots on the cargo pod and landing gear might result in some operators removing or deactivating the deicing boots to avoid the requirements of the AD.

In light of the above, the USPA proposes that instead of installing the deicing boots, allow the owners/operators of jump airplanes to install a placard (within the pilot's clear view) that restricts the airplane from flight into known icing conditions.

What is FAA's response to the concern? The FAA recognizes that some owners/operators of the affected aircraft do not operate in known icing conditions. Our intent in the proposed rule was not to mandate the cargo pod and landing gear deicing boots on airplanes unapproved for flight in icing or for airplanes owners to remove or deactivate the deicing boots.

For the final rule, we added an option for airplanes discussed in the previous paragraph to require installing a placard that prohibits flight in icing conditions instead of installing the cargo pod and landing gear fairing deicing boots.

Comment Issue No. 5: Delay the Proposed Requirement To Install the Cargo Pod and Landing Gear Deicing Boots Until Cessna Flight Tests Are Completed

What is the commenter's concern? Two commenters, Cessna and the RACCA, forwarded correspondence to FAA that suggests delaying the proposed requirement to install the deicing boots on the cargo pod and landing gear.

In a recent letter to RACCA, Cessna's Director of Airworthiness and Product Safety stated the following:

“Cessna does not believe that an unsafe condition exists in the design of aircraft equipped with pneumatic deice boots for flight into known icing and not equipped with cargo pod and main landing gear deice boots.” He continued by indicating that Cessna is planning to conduct additional flight tests to determine if the rate of climb performance is significantly improved in icing conditions and that mandatory action (presumably the AD) “should be delayed until completion of analysis of this testing.”

We conclude that in light of the letter from Cessna, the RACCA wants FAA to delay requiring owners/operators of the affected aircraft to install the cargo pod and landing gear deicing boots until Cessna's flight tests are completed.

What is FAA's response to the concern? The FAA reviewed the results of Cessna artificial ice shape testing and determined the results validate the FAA drag analysis. We have retained the requirement to install deicing boots on the cargo pod and landing gear.

Comment Issue No. 6: Withdraw the Proposed Rule, Conduct Public Hearings, and as a Result of the Public Hearings, Issue a New NPRM

What is the commenter's concern? The Alaska Air Carriers Association (AACA) requested that FAA withdraw the proposed rule, conduct at least two public hearings on the proposed changes; and based upon the comments received under this docket and from the public hearings, issue another document on this proposed rule. The AACA reasoning for the comment issue included the following points.

—The proposed rule is extremely burdensome, especially in light of the requirements of the Regulatory Flexibility Analysis. The AACA estimated that the cost of outfitting each Cessna 208/208B with the required items and making the proposed changes to the POH/AFM is $13,041, not $9,653 as FAA estimated the cost impact.

—The proposed rule would expand requirements without any evidence that it would enhance safety.

—The proposed rule does not address necessary training for owners/operators of the affected aircraft.

What is FAA's response to the concern? The FAA does not agree with the reasoning of the AACA for this comment issue. The FAA has determined that the requirements regarding a Regulatory Flexibility Analysis have been met and that, since an unsafe condition exists, we should issue the AD. Further, the impact on continued operational safety outweighs the cost to comply. The FAA does not believe that there is a need for any public meetings.

We are not making changes to the final rule based on this comment except we have modified the estimated cost of compliance. Also, owners and operators always have the option to apply for a FAA-approved alternative method to the pilot assist handle that will allow the inspection required in the AFM Limitations section. An example is a ladder that allows inspection of the upper wing extending out to two feet behind the deicing boot and is properly secured inside the airplane when not in use. Such an alternative would not be considered for part 135 operators that are approved to operate in ground icing conditions. The pilot assist handle is required to safely and quickly conduct a pretakeoff contamination check within five minutes of takeoff.

Comment Issue No. 7: Prohibit Flights Into Forecast and Known Icing Conditions, Make a Special Airworthiness Review of the Aircraft Certification for Operations in Icing Conditions, and Evaluate Alternative Airframe Ice Protection Technologies

What is the commenter's concern? The commenter states that the row of vortex generators on top of the horizontal stabilizer just forward of the elevator, which enhance nose down elevator and trim authority, may lose effectiveness in icing conditions. Additionally, the commenter states that the pilot assist handle will not permit (without use of a ladder) adequate inspection of all the upper tailplane surfaces including the vortex generators. Therefore, the commenter recommends that FAA prohibit flights of Cessna Model 208 and 208B aircraft into forecast and known icing conditions until a Special Airworthiness Review of the Aircraft Certification for operations in icing conditions (with focus on the tailplane icing issue) is done, including review and evaluation of alternative airframe ice protection technologies.

What is FAA's response to the concern? The FAA does not concur. The tailplane vortex generators were installed to improve trim authority not as a result of ice contaminated tailplane stall (ICTS). The critical tail surface is the underside of the tail, and the critical wing surface is the upper surface. We note that sandpaper ice, which has been shown to be just as critical as ice shapes for ICTS susceptibility, has been evaluated on the Cessna Model 208. As mentioned in our above responses to other commenters, Cessna is conducting flight tests that will include intercycle ice with horn shapes associated with glaze ice along the entire span of the horizontal stabilizer and on the elevator horns. The flight tests will also evaluate longitudinal control and trim at critical center of gravity. Before deciding on any further rulemaking action, FAA will review the test results and the potential for ice to accrete on the vortex generators and the resulting effect.

The FAA is not making changes to the final rule based on this comment.

Conclusion

What is FAA's final determination on this issue? We have carefully reviewed the available data and determined that air safety and the public interest require adopting the AD as proposed except for the changes discussed above and minor editorial corrections. We have determined that these changes and minor corrections:

—Are consistent with the intent that was proposed in the NPRM for correcting the unsafe condition; and

—Do not add any additional burden upon the public than was already proposed in the NPRM.

Docket Information

Where can I go to view the docket information? You may view the AD docket that contains information relating to this subject in person at the DMS Docket Offices between 9 a.m. and 5 p.m. (eastern time), Monday through Friday, except Federal holidays. The Docket Office (telephone 1-800-647-5227) is located on the plaza level of the Department of Transportation NASSIF Building at the street address stated in ADDRESSES. You may also view the AD docket on the Internet at http://dms.dot.gov.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 743 airplanes in the U.S. registry.

What is the cost impact of this AD on owners/operators of the affected airplanes? We estimate the following costs to do the installation of the pilot assist handle (P/N SK208-146-2) for all Cessna Models 208 and 208B airplanes:

Labor cost | Parts cost | Total cost per airplane | Total cost on U.S. operators
5 work hours × $65 = $325 | $858 | $1,183 | 721 × $1,183 = $852,943.

We estimate the following costs to do the installation of the cargo pod and landing gear deicing boots (P/N AK208-6C) for all Cessna Models 208 and 208B airplanes:

Labor cost | Parts cost | Total cost per airplane | Total cost on U.S. operators
37 work hours × $65 = $2,405 | $10,151 | $12,556 | 343 × $12,556 = $4,306,708.

We estimate the following costs to do the installation of a placard for all Cessna Models 208 and 208B airplanes:

Labor cost | Parts cost | Total cost per airplane | Total cost on U.S. Operators
2 work hours × $65 = $130 | $500 | $630 | 29 × $630 = $18,270.

We estimate the following costs to do the changes to the Pilot's Operating Handbook (POH) and FAA-approved Airplane Flight Manual (AFM):

Labor cost | Parts cost | Total cost per airplane | Total cost on U.S. operators
2 work hours × $65 = $130 | Not Applicable | $65 | 752 × $130 = $97,760.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-21275; Directorate Identifier 2005-CE-28-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2006-01-11 The Cessna Aircraft Company: Amendment 39-14450; Docket No. FAA-2005-21275; Directorate Identifier 2005-CE-28-AD.

When Does This AD Become Effective?

(a) This AD becomes effective on February 22, 2006.

What Other ADs Are Affected by This Action?

(b) None.

What Airplanes Are Affected by This AD?

(c) This AD affects Models 208 and 208B, all serial numbers, that are certificated in any category.

What Is the Unsafe Condition Presented in This AD?

(d) This AD is the result of reports of several accidents involving the affected airplanes during operations in-flight and in ground icing conditions. We are issuing this AD to provide a safe method to detect ice, snow, frost, or slush adhering to the upper wing (a critical surface) prior to takeoff; and to reduce drag in-flight by shedding ice on the cargo pod and landing gear fairings. Ice adhering to the upper wing surface, cargo pod, or landing gear fairings could result in a reduction in airplane performance with the consequences that the airplane cannot perform a safe takeoff or climb or maintain altitude.

What Must I Do To Address This Problem?

(e) To address this problem, you must do the following:

Actions | Compliance | Procedures
(1) Install the pilot assist handle SK208-146-2 subkit (part number (P/N) SK208-146-2( (or FAA-approved equivalent part number if the airplane will be operated in the ground icing conditions defined under ‘Visual/Tactile Check’ in the LIMITATIONS section of the AFM after the compliance time) | Within the next 125 days after February 22, 2006 (the effective date of this AD), unless already done | Install the pilot assist handle SK208-146-2 subkit (part number (P/N) SK208-146-2 (or FAA-approved equivalent part number) following step 4 of the Accomplishment Instructions of Cessna Caravan Service Kit No. SK208-146, dated October 4, 2004.
(2) 14 CFR 21.303 allows for replacement parts through parts manufacturer approval (PMA). The phrase “or FAA-approved equivalent part number” in this AD is intended to signify those parts that are PMA parts approved through identicality to the design of the part under the type certificate and parts to correct the unsafe condition under PMA (other than identicality). Equivalent replacement parts to correct the unsafe condition under PMA (other than identicality) may also be installed provided they meet current airworthiness standards, which include those actions cited in this AD | Not Applicable | Not Applicable.
(3) Insert the text in Appendix 1 of this AD after the “OTHER LIMITATIONS” in the LIMITATIONS section of the Cessna Models 208 or 208B Pilot's Operating Handbook (POH) and FAA-approved Airplane Flight Manual (AFM) | Before further flight after compliance to paragraph (e)(1) of this AD | The owner/operator holding at least a private pilot certificate as authorized by section 43.7 of the Federal Aviation Regulations (14 CFR 43.7) may insert the information into the POH as specified in paragraph (e)(3) of this AD. You may insert a copy of this AD into the appropriate sections of the POH to comply with this action. Make an entry into the aircraft records showing compliance with portion of the AD in accordance with section 43.9 of the Federal Aviation Regulations (14 CFR 43.9).
(4) For Cessna Model 208B with Pratt & Whitney of Canada Ltd., PT6A-114 Turbo Prop engine installed (600 SHP) or equivalent, and equipped with pneumatic deicing boots, do one of the following: (i) Install Cessna Accessory Kit AK208-6C per Cessna Service Bulletin CAB95-19; or (ii) Install a placard in view of the pilot which states “This airplane is prohibited from flight in known or forecast icing” | Within the next 125 days after February 22, 2006 (the effective date of this AD), unless already done | Install the cargo pod and landing gear fairing deice kit (part number (P/N) AK208-6C2) (or FAA-approved equivalent part number) following the Installation Instructions of Cessna Caravan Service Bulletin No. CAB95-19, dated October 13, 1995, and Cessna Caravan Accessory Kit No. AK208-6C, Revision C, dated August 27, 1993. The owner/operator holding at least a private pilot certificate as authorized by section 43.7 of the Federal Aviation Regulations (14 CFR 43.7) may install the placard as specified in paragraph (e)(4) of this AD. You may insert a copy of this AD into the appropriate sections of the POH to comply with this action. Make an entry into the aircraft records showing compliance with portion of the AD in accordance with section 43.9 of the Federal Aviation Regulations (14 CFR 43.9).
(5) For all Cessna Model 208 and 208B airplanes equipped with pneumatic deicing boots and not included in paragraph (e)(4) of this AD, do one of the following: (i) Install Cessna Accessory Kit AK208-6C per Cessna Service Bulletin CAB93-20 Revision 1; or (ii) Install a placard in view of the pilot with the following words: “This airplane is prohibited from flight in known or forecast icing” | Within the next 125 days after February 22, 2006 (the effective date of this AD), unless already done | Do the installation following the Installation Instructions of Cessna Caravan Service Bulletin No. CAB93-20, Revision 1, dated October 13, 1995, and Cessna Caravan Accessory Kit No. AK208-6C, Revision C, issued August 27, 1993. The owner/operator holding at least a private pilot certificate as authorized by section 43.7 of the Federal Aviation Regulations (14 CFR 43.7) may install the placard as specified in paragraph (e)(5)(ii) of this AD. Make an entry into the aircraft records showing compliance with portion of the AD in accordance with section 43.9 of the Federal Aviation Regulations (14 CFR 43.9).
(6) Insert the text in Appendix 2 of this AD in the “KINDS OF OPERATION LIMITS” in the LIMITATIONS section of the Cessna Models 208 or 208B Pilot's Operating Handbook (POH) and FAA-approved Airplane Flight Manual (AFM) | Before further flight after compliance to paragraph (e)(4)(i) or (e)(5)(i) of this AD | The owner/operator holding at least a private pilot certificate as authorized by section 43.7 of the Federal Aviation Regulations (14 CFR 43.7) may insert the information into the POH as specified in paragraph (e)(3) of this AD. You may insert a copy of this AD into the appropriate sections of the POH to comply with this action. Make an entry into the aircraft records showing compliance with portion of the AD in accordance with section 43.9 of the Federal Aviation Regulations (14 CFR 43.9).
(7) Delete the text in Appendix 3 of this AD from the “REQUIRED EQUIPMENT” in the LIMITATIONS section of the Cessna Models 208 or 208B Pilot's Operating Handbook (POH) and FAA-approved Airplane Flight Manual (AFM) Supplement S1 “Known Icing Equipment” | Before further flight after compliance to paragraph (e)(4)(i) or (e)(5)(i) of this AD | The owner/operator holding at least a private pilot certificate as authorized by section 43.7 of the Federal Aviation Regulations (14 CFR 43.7) may insert the information into the POH as specified in paragraph (e)(3) of this AD. You may insert a copy of this AD into the appropriate sections of the POH to comply with this action. Make an entry into the aircraft records showing compliance with portion of the AD in accordance with section 43.9 of the Federal Aviation Regulations (14 CFR 43.9).

Note: Cessna Caravan Service Bulletin No. CAB04-9, dated October 4, 2004, also addresses the installation of the pilot assist handle.

May I Request an Alternative Method of Compliance?

(f) The Manager, Wichita Aircraft Certification Office (ACO), FAA, has the authority to approve alternative methods of compliance for this AD, if requested using the procedures found in 14 CFR 39.19. For information on any already approved alternative methods of compliance, contact Paul Pellicano, Aerospace Engineer (Icing), FAA, Small Airplane Directorate, c/o Atlanta ACO, One Crown Center, 1985 Phoenix Boulevard, Suite 450, Atlanta, GA 30349; telephone: (770) 703-6064; facsimile: (770) 703-6097; or Robert P. Busto, Aerospace Engineer, Wichita ACO, FAA, 1801 Airport Road, Wichita, Kansas 67209; telephone: (316) 946-4157; facsimile: (316) 946-4107.

Does This AD Incorporate Any Material by Reference?

(g) You must do the actions required by this AD following the instructions in Cessna Caravan Service Kit No. SK208-146, dated October 4, 2004 and Cessna Caravan Accessory Kit No. AK208-6C, Revision C, dated August 27, 1993. The Director of the Federal Register approved the incorporation by reference of this service bulletin in accordance with 5 U.S.C. 552(a) and 1 CFR part 51. To get a copy of this service information, contact The Cessna Aircraft Company, Product Support, P.O. Box 7706, Wichita, Kansas 67277-7706; telephone: (316) 517-5800; facsimile: (316) 942-9006. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-21275; Directorate Identifier 2005-CE-28-AD.

Appendix 1 to AD 2006-01-11

Changes to the Cessna Models 208 or 208B Pilot's Operating Handbook (POH) and FAA-Approved Airplane Flight Manual

Affected Cessna Models 208 or 208B Pilot's Operating Handbook (POH) and FAA-Approved Airplane Flight Manual (AFM)

Insert the following text after the “OTHER LIMITATIONS” in the LIMITATIONS section of the Cessna Models 208 or 208B Pilot's Operating Handbook (POH) and FAA-approved Airplane Flight Manual (AFM):

COLD WEATHER OPERATIONS

The airplane must be equipped with the following equipment when operating at an airport in the ground icing conditions defined under ‘Visual/Tactile Check’ in the LIMITATIONS section:

1. Pilot assist handle, Cessna P/N SK208-146-2 (or FAA-approved equivalent part number)

Appendix 2 to AD 2006-01-11

Changes to the Cessna Models 208 or 208B Pilot's Operating Handbook (POH) and FAA-Approved Airplane Flight Manual

Affected Cessna Models 208 or 208B Pilot's Operating Handbook (POH) and FAA-Approved Airplane Flight Manual (AFM)

Add the following to the equipment listed under “FLIGHT INTO KNOWN ICING” in the “KINDS OF OPERATION LIMITS” in the LIMITATIONS section of the FAA approved Airplane Flight Manual:

Lower main landing gear leading edge deice boots

Cargo pod nosecap deice boot

Appendix 3 to AD 2006-01-11

Changes to the Cessna Models 208 or 208B Pilot's Operating Handbook (POH) and FAA-Approved Airplane Flight Manual Supplement S1

Affected Cessna Models 208 or 208B Pilot's Operating Handbook (POH) and FAA-Approved Airplane Flight Manual (AFM) Supplement S1

Remove the paragraph under “REQUIRED EQUIPMENT” in the Limitations section of the FAA Approved Flight Manual Supplement S1 “Known Icing Equipment”, that currently reads as follows:

The following additional equipment is not required for flight into icing conditions as defined by FAR 25, but may be installed on early serial airplanes by using optional accessory Kit AK208-6. On later serial airplanes, this equipment may be included with the flight into known icing package. If installed, this equipment must be fully operational:

Issued in Kansas City, Missouri, on January 5, 2006.
John R. Colomy,
Acting Manager, Small Airplane Directorate, Aircraft Certification Service.

[FR Doc. 06-225 Filed 1-11-06; 8:45 am]

BILLING CODE 4910-13-P